DEPARTMENT OF THE INTERIOR

National Park Service

[NPS-WASO-NAGPRA-NPS0037484; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), California State University, Sacramento has completed an inventory of human remains and associated funerary objects and has determined that there is a cultural affiliation between the human remains and associated funerary objects and Indian Tribes in this notice. The human remains and associated funerary objects were removed from Sacramento County, CA.

DATES: Repatriation of the human remains and associated funerary objects in this notice may occur on or after March 29, 2024.

ADDRESSES: Dr. Mark Wheeler, Chief of Staff to President Luke Wood, California State University, Sacramento, 6000 J Street, Sacramento, CA 95819, telephone (916) 460-0490, email mark.wheeler@csus.edu.

SUPPLEMENTARY INFORMATION: This notice is published as part of the National Park Service's administrative responsibilities under NAGPRA. The determinations in this notice are the sole responsibility of California State University, Sacramento. The National Park Service is not responsible for the determinations in this notice. Additional information on the determinations in this notice, including the results of consultation, can be found in the inventory or related records held by California State University, Sacramento.

Description

Associated funerary objects were removed from CA-SAC-39 (also known as the Woodlake Site) in Sacramento County, CA, on three sperate occasions from the 1950s-1970s, possibly by Clifford Curtice, Ann Peak and others. Occupation of the site is estimated to have occurred during the Late through Historic periods (approximately A.D. 300-post 1850) with some evidence of a possible earlier component. The 13 associated funerary objects consist of flaked and ground stones; historic materials; and modified shells. Of this number, at least one object is currently missing, and California State University, Sacramento continues to look for it.

Associated funerary objects were removed from site CA-SAC-53 (also known as Wagner Mound) in Sacramento County, CA, by students in the 1970s under the direction of Dr. Jerald Johnson. Occupation of the site is not known, but a possible Middle Horizon (approximately 1000 B.C.-300 A.D.) component has been suggested. The 20 associated funerary objects consist of flaked stones and historic materials. An unknown number of objects may be missing from the collection, and California State University, Sacramento continues to look for them.

Associated funerary objects were removed from site CA-SAC-54 in Sacramento County, CA, at an unknown date by unknown individuals. Occupation of the site is not known. The 21 associated funerary objects consist of flaked and ground stones; faunal remains; historic materials; and unmodified stones. An unknown number of objects may be missing from the collection, and California State University, Sacramento continues to look for them.

Human remains representing, at minimum, 56 individuals were removed from site CA-SAC-67 (also known as the Denier Site) in Sacramento County, CA. These human remains and associated funerary objects came into the University's possession through excavations conducted in the 1970s-1980s by students from Sacramento State, UC Davis, and Cosumnes River College under the direction of Dr. Jerald Johnson. Occupation of the site is estimated to have primarily occurred from approximately 3500 BP to 150 BP. The 92,957 associated funerary objects consist of archeological materials, baked clay, faunal remains, flaked stone, floral remains, groundstone, historic materials, modified bone, modified shell, modified stone, thermally altered rocks, unmodified stone, unbaked clay, geologic samples, soil samples, plaster casts/impressions, manuports, ash, unidentified objects, pigment, charcoal, basketry fragments, and one lot of uncatalogued materials. At least 126 objects are currently missing, and California State University, Sacramento continues to look for them.

Associated funerary objects were removed from site CA-SAC-116 (also known as Muddox Mound) in Sacramento County, CA, likely in the 1950s by unknown individuals associated with the University. Occupation of the site is estimated to have occurred during the Late Horizon through Historic Period (approximately A.D. 300-post 1850). The 29 associated funerary objects consist of flaked stones; historic materials; and modified shells and stones. Of this number, at least 22 objects are currently missing, and California State University, Sacramento continues to look for them.

Human remains representing, at minimum, 43 individuals were removed from site CA-SAC-117 (also known as Woodward Mound) in Sacramento County, CA. These human remains and associated funerary objects came into the University's possession through excavations conducted in the 1950s by Sacramento State students under the direction of Dr. Richard Reeves. Occupation of the site is estimated to have occurred during the Middle and Late Periods (approximately 500 B.C.-A.D. 1500). The 286 associated funerary objects consist of baked clay objects; faunal remains; flaked stones; modified bones, shells and stones; unmodified stones; thermally altered rocks; and quartz crystals. An unknown number of objects may be missing from the collection, and California State University, Sacramento continues to look for them.

Human remains representing, at minimum, three individuals were removed from site CA-SAC-125 (also known as the Horst Site), CA-SAC-129, CA-SAC-133 (also known as Aufdermaur #1), CA-SAC-134 (also known as Mahon #1), CA-SAC-135 (also known as Audisio), CA-SAC-136, and CA-SAC-147 in Sacramento County, CA. These human remains and associated funerary objects came into the University's possession through a survey conducted in 1974 by Sacramento State students under the direction of Dr. Jerald Johnson. Occupation of the sites varies. The 27 associated funerary objects consist of flaked and ground stones; faunal remains; historic materials; modified bones and stones; unmodified stones; ash; and fired earth. An unknown number of objects may be missing from the collections, and California State University, Sacramento continues to look for them.

Human remains representing, at minimum, two individuals were removed from site CA-SAC-164 (also known as Sand Cove) in Sacramento County, CA in the 1980s by Sacramento State students and from other unknown origins. Occupation of the site is estimated to have occurred during the Middle Horizon through Historic Period (approximately 1000 B.C.-post A.D. 1850). The 1,217 associated funerary objects consist of baked clay objects; faunal and floral remains; historic materials; flaked and ground stones; unmodified stones; modified bones, stones, and shells; thermally altered rocks; soil samples; charcoal; ash; and unidentified materials. An unknown number of objects may be missing from the collection, and California State University, Sacramento continues to look for them.

Associated funerary objects from site CA-SAC-168 in Sacramento County, CA, were donated to the University in 1956 from the University of Californian, Berkeley. A Late Horizon (A.D. 300-post 1850) occupation is documented for the site. The two associated funerary objects are charmstones.

Associated funerary objects were removed from site CA-SAC-185 in Sacramento County, CA, by an unknown individual. It is not known how they came into the University's possession. The date range of occupation of the site is not known. The five associated funerary objects consist of flaked stones. An unknown number of objects may be missing from the collection, and California State University, Sacramento continues to look for them.

Human remains representing, at minimum, three individuals were removed from site CA-SAC-194 (also known as Van Vleck Mound) in Sacramento County, CA. These human remains and associated funerary objects came into the University's possession through various surveys conducted in the 1960s by Sacramento State field classes and a possible excavation in the 1950s by Clifford Curtis. Occupation of the site is estimated to have occurred during the Late Horizon through Historic Period (approximately A.D. 300-post 1850). The 705 associated funerary objects consist of flaked stones; faunal and floral remains; historic materials; modified bones, shells and stones; and soil samples. Of this number, at least three objects are currently missing, and California State University, Sacramento continues to look for them.

Human remains representing, at minimum, one individual were removed from site CA-SAC-202 (also known as the Mooney site) in Sacramento County, CA. These human remains and associated funerary objects came into the University's possession through a 1954 excavation under the direction of Brigham Arnold. The date range of occupation of the site is not known. The 297 associated funerary objects consist of baked clay objects; faunal remains; flaked and ground stones; historic materials; modified shells, bones, and stones; unmodified stones; and quartz crystals. Of this number, at least 263 objects and the human remains are currently missing from the collection, and California State University, Sacramento continues to look for them.

Human remains representing, at minimum, four individuals were removed from site CA-SAC-203 (also known as the Mathena Mound) in Sacramento County, CA. These human remains and associated funerary objects came into the University's possession through a 1946 excavation. Occupation of the site is estimated to have occurred during at least the Late Horizon. The 27 associated funerary objects consist of flaked stones; modified bones and shells; and unmodified stones. An unknown number of objects may be missing from the collection, and California State University, Sacramento continues to look for them.

Human remains representing, at minimum, nine individuals were removed from site CA-SAC-205 in Sacramento County, CA. These human remains and associated funerary objects came into the University's possession through 1971 and 1973 excavations under the direction of Ann Peak. Occupation of the site is estimated to have occurred during at least the Late Horizon. The 174 associated funerary objects consist of faunal and floral remains; flaked and ground stones; historic materials; modified bones, stones, and shells; thermally altered rocks; and unmodified stones. Of this number, at least one object is currently missing from the collection, and California State University, Sacramento continues to look for it.

Human remains representing, at minimum, two individuals were removed from site CA-SAC-208 (also known as the Harris site) in Sacramento County, CA. These human remains and associated funerary objects came into the University's possession through a 1956/1957 visit to the site by Richard Reeve, Brigham Arnold and Norman Wilson. The date range of occupation of the site is not known. The 30 associated funerary objects consist of baked clay objects; faunal remains; and historic materials. An unknown number of objects may be missing from the collection, and California State University, Sacramento continues to look for them.

Human remains representing, at minimum, one individual were removed from site CA-SAC-221 (also known as the Rouse site) in Sacramento County, CA. These human remains and associated funerary objects came into the University's possession through a 1956 survey conducted by Norman Wilson. Occupation of the site is estimated to have occurred during at least the Historic Period. The five associated funerary objects are the following individual lots: faunal remains; flaked stones; thermally altered rocks; modified shell; and uncatalogued material.

Human remains representing, at minimum, eight individuals were removed from site CA-SAC-225 (also known as the Loughridge site) in Sacramento County, CA. These human remains and associated funerary objects came into the University's possession through excavations carried out from 1961-1969 by Sacramento State field classes under the direction of William Beeson. Occupation of the site is estimated to have occurred from the Middle Horizon through Historic period (approximately 1000 B.C.-post A.D. 1850). The 13 associated funerary objects are the following individual lots: faunal remains; floral remains; flaked stones; groundstones; historic materials; thermally altered rocks; modified bones; modified stones; modified shells; pigment; unmodified stones; quartz; and uncatalogued materials.

Associated funerary objects were removed from site CA-SAC-230 in Sacramento County, CA, in 1964 by William Beeson and Jerald Johnson, and in 1974 during a student survey. Occupation of the site is estimated to have occurred during the Late Horizon through Historic Period (approximately A.D. 300-post 1850). The 46 associated funerary objects consist of faunal remains; flaked stones; historic materials; and modified shells. An unknown number of objects may be missing from the collection, and California State University, Sacramento continues to look for them.

Human remains representing, at minimum, one individual were removed from site CA-SAC-237 (also known as the Chatterson site) in Sacramento County, CA. These human remains and associated funerary objects came into the University's possession through a 1964 excavation under the direction of Patti Palumbo. Occupation of the site is estimated to have occurred during approximately 2,500 to 1,500 BP with an additional historic period component. The 417 associated funerary objects consist of faunal and floral remains; flaked and ground stones; historic materials; modified bones and stones; quartz crystals; and unmodified stones. An unknown number of objects may be missing from the collection, and California State University, Sacramento continues to look for them.

Human remains representing, at minimum, one individual were removed from site CA-SAC-239 (also known as the Scott site) in Sacramento County, CA. These human remains and associated funerary objects came into the University's possession through excavations in 1957 and 1958 by Louis Payen, Francis Riddell, and Brigham Arnold. Occupation of the site is estimated to have occurred during at least the Late Horizon. The 241 associated funerary objects consist of faunal and floral remains; flaked and ground stones; historic materials; modified bones, shells, and stones; thermally altered rocks; pigments; quartz crystals; and unmodified stones. An unknown number of objects may be missing from the collection, and California State University, Sacramento continues to look for them.

Associated funerary objects were removed from site CA-SAC-241 in Sacramento County, CA. These associated funerary objects came into the University's possession through a 1964 survey by John Mott and Patti Palumbo. The date range of occupation of the site is not known. The eight associated funerary objects consist of flaked and ground stones. An unknown number of objects may be missing from the collection, and California State University, Sacramento continues to look for them.

Human remains representing, at minimum, two individuals were removed from site CA-SAC-265 (also known as the Whaley site) in Sacramento County, CA. These human remains and associated funerary objects came into the University's possession through excavations in 1975 and 1982 under the direction of Dr. Jerald Johnson and Donna Sheeders. Occupation of the site is estimated to have occurred from the Early Horizon through Historic Period (approximately 1500 B.C. to A.D. 1934). The 2,028 associated funerary objects consist of baked clay objects; faunal and floral remains; flaked and ground stones; historic materials; modified bones and stones; pigments; and unmodified stones. Of this number, at least 24 objects are currently missing from the collection, and California State University, Sacramento continues to look for them.

Human remains representing, at minimum, 51 individuals were removed from site CA-SAC-267 (also known as the Blodgett site) in Sacramento County, CA. These human remains and associated funerary objects came into the University's possession through excavations carried out from 1969-1973 by Sacramento State and UC Davis under the direction of Dr. Jerald Johnson and Eric Ritter. Occupation of the site is estimated to have occurred from A.D. 500-1840. The 19 associated funerary objects are the following individual lots: baked clay objects; faunal remains; floral remains; flaked stones; groundstones; historic materials; thermally altered rocks; modified bones; modified stones; modified shells; pigment; unmodified stones; thermally-altered rocks; quartz; geologic samples; soil samples; ash; unidentified objects; and uncatalogued materials.

Human remains representing, at minimum, one individual were removed from site CA-SAC-285 in Sacramento County, CA. These human remains and associated funerary objects came into the University's possession through a 1972 survey by Kent Smith and Ann Peak. The date range of occupation of the site is not known. The 288 associated funerary objects consist of faunal remains; flaked and ground stones; modified stones; thermally altered rocks; quartz crystals; and unmodified stones. An unknown number of objects may be missing from the collection, and California State University, Sacramento continues to look for them.

Associated funerary objects were removed from site CA-SAC-476/H (also known as the Mucke site) in Sacramento County, CA. The origin of the collection is not known, but it was likely generated by Charles Gebhardt in the 1950s. The date range of occupation of the site is not known. The four associated funerary objects consist of modified shells. An unknown number of objects may be missing from the collection, and California State University, Sacramento continues to look for them.

Human remains representing, at minimum, one individual were removed from site CA-SAC-Cabin Site in Sacramento County, CA. These human remains and associated funerary objects came into the University's possession through an excavation conducted in 1967 under the direction of William Beeson. Occupation of the site is estimated to have occurred during the Middle Horizon through Historic Period approximately 1000 B.C.-post A.D. 1850). The 1,429 associated funerary objects consist of flaked and ground stones; faunal remains; historic materials; modified bones and stones; pigments; and unmodified stones. Of this number, at least three objects are currently missing, and California State University, Sacramento continues to look for them.

Human remains representing, at minimum three individuals were removed from CA-SAC-Horst Ranch in Sacramento County, CA. The origin of the collection is not known nor is a date range for occupation of the site. The three associated funerary objects are the following individual lots: faunal remains; flaked stones; and uncatalogued materials.

Human remains representing, at minimum one individual were removed from an unknown site in Sacramento County, CA, likely near Rancho Cordova. The collection was likely donated to the University in the 1980s by unidentified park rangers. The four associated funerary objects are the following individual lots: faunal remains; modified shells; floral remains; and uncatalogued materials.

Human remains representing, at minimum, one individual were removed from an unknown site in Sacramento County, CA, during the construction of a residence hall on the Sacramento State campus in 1958. The three associated funerary objects are the following individual lots: faunal remains; soil samples; and uncatalogued materials.

Cultural Affiliation

The human remains and associated funerary objects in this notice are connected to one or more identifiable earlier groups, tribes, peoples, or cultures. There is a relationship of shared group identity between the identifiable earlier groups, tribes, peoples, or cultures and one or more Indian Tribes. The following types of information were used to reasonably trace the relationship: anthropological, archeological, folkloric, geographical, historical, kinship, linguistic, oral traditional, and expert opinion.

Determinations

Pursuant to NAGPRA and its implementing regulations, and after consultation with the appropriate Indian Tribes, California State University, Sacramento has determined that:

• The human remains described in this notice represent the physical remains of 194 individuals of Native American ancestry.

• The 100,318 objects described in this notice are reasonably believed to have been placed with or near individual human remains at the time of death or later as part of the death rite or ceremony.

• There is a relationship of shared group identity that can be reasonably traced between the human remains and associated funerary objects described in this notice and the Buena Vista Rancheria of Me-Wuk Indians of California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 29, 2024. If competing requests for repatriation are received, California State University, Sacramento must determine the most appropriate requestor prior to repatriation. Requests for joint repatriation of the human remains and associated funerary objects are considered a single request and not competing requests. California State University, Sacramento is responsible for sending a copy of this notice to the Indian Tribes identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04097 Filed 2-27-24; 8:45 am]

BILLING CODE 4312-52-P